DEPARTMENT OF HEALTH AND HUMAN SERVICES

Administration for Children and Families

Proposed Information Collection Activity; Comment Request

Title: Head Start Health Managers Descriptive Study.

OMB No.: New Collection.

Description

The Administration for Children and Families (ACF), U.S. Department of Health and Human Services (HHS), is proposing a data collection activity that will provide descriptive data about the Head Start Health Component. The goals of the Head Start Health Manager Descriptive Study are (1) to describe the characteristics of Health Managers and related staff in Head Start (HS) and Early Head Start (EHS) programs; (2) to identify the current landscape of health programs and services being offered to children and families; (3) to determine how health initiatives are prioritized, implemented, and sustained; and (4) to identify the programmatic features and policy levers that exist to support health services including staffing, environment, and community collaboration. These objectives will be accomplished through an online survey of all HS/EHS Health Managers, including American Indian/Alaskan Native and Migrant and Seasonal Head Start grantees. The survey responses will be further informed by semi-structured interviews conducted with a subsample of Head Start Health Managers, teachers, and family service workers.

Respondents

The target respondents for this data collection are Head Start Health Managers at the grantee and delegate level; however data will also be collected from Head Start Directors, Teachers, and Family Service Workers.

Annual Burden Estimates
Instrument | Annual number of respondents | Number of responses per respondent | Average burden hours per response | Total annual burden hours
Head Start Health Managers Survey | 2,879 | 1 | 1.25 | 3,599
Head Start Director Survey | 2,879 | 1 | .25 | 720
Semi-structured interviews Head Start Health Managers | 40 | 1 | .75 | 30
Semi-structured interviews Head Start Teachers and Family Service Workers | 60 | 1 | .75 | 45

Estimated Total Annual Burden Hours: 4394.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 4, 2012.
Steven M. Hanmer,
Reports Clearance Officer.

[FR Doc. 2012-262 Filed 1-10-12; 8:45 am]

BILLING CODE 4184-22-M